DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Practitioner Records Maintenance, Disclosure, and Discipline Before the United States Patent and Trademark Office (USPTO).

Form Number(s): None.

Agency Approval Number: 0651-0017.

Type of Request: Extension of a currently approved collection.

Burden: 10,402 hours annually.

Number of Respondents: 532 responses per year.

Avg. Hours Per Response: The USPTO estimates that practitioners spend 26 hours per year keeping and maintaining records concerning their client's cases. The USPTO estimates that practitioners seeking reinstatement to practice before the agency will spend 60 hours per year keeping and maintaining records showing their compliance with the suspension or exclusion orders. It is estimated that it takes 2 hours to report a complaint/violation. These estimates include the time to maintain the records, and to gather the necessary information and prepare the complaint/violation and submit it to the USPTO.

Needs and Uses: This information is required by 35 U.S.C. 2(b)(2)(D) and 32, and administered by the USPTO through the USPTO Code of Professional Responsibility (37 CFR 10.20 to 10.112) and the Investigations and Disciplinary Proceedings rules (37 CFR 10.130 to 10.170). This information is used by the Director of the Office of Enrollment and Discipline (OED) to investigate and, where appropriate, prosecute for violations of the USPTO Code of Professional Responsibility. Registered practitioners are mandated to maintain proper documentation so that they can fully cooperate with an investigation in the event of a report of an alleged violation. Additionally, practitioners who have been excluded or suspended from practice before the USPTO must keep and maintain records of their steps to comply with the suspension or exclusion order. These records serve as the practitioner's proof of compliance with the order. No forms are associated with this information collection.

Affected Public: Business or other for-profit.

Frequency: On occasion.

Respondent's Obligation: Mandatory.

OMB Desk Officer: David Rostker, (202) 395-3897.

Copies of the above information collection proposal can be obtained by any of the following:

E-mail: Susan.Fawcett@uspto.gov. Include “0651-0017 copy request” in the subject line of the message.

Fax: 571-273-0112, marked to the attention of Susan K. Fawcett.

Mail: Susan K. Fawcett, Records Officer, Office of the Chief Information Officer, Customer Information Services Group, Public Information Services Division, U.S. Patent and Trademark Office, P.O. Box 1450, Alexandria, VA 22313-1450.

Written comments and recommendations for the proposed information collection should be sent on or before July 23, 2007 to David Rostker, OMB Desk Officer, Room 10202, New Executive Office Building, Washington, DC 20503.

Dated: June 15, 2007.
Susan K. Fawcett,
Records Officer, USPTO, Customer Information Services Group, Public Information Services Division.

[FR Doc. E7-12005 Filed 6-20-07; 8:45 am]

BILLING CODE 3510-16-P